ARCHITECTURAL AND TRANSPORTATION BARRIERS COMPLIANCE BOARD

[Docket No. 02-2]

Information Quality Guidelines

AGENCY: Architectural and Transportation Barriers Compliance Board.

ACTION: Notice of availability of draft information quality guidelines and request for comments.

SUMMARY: The Architectural and Transportation Barriers Compliance Board (Access Board) has placed draft information quality guidelines on its web site for public review and comment. The purpose of the draft information quality guidelines is to ensure the quality, objectivity, utility, and integrity of certain information disseminated by the Access Board to the public. The draft guidelines also provide an administrative mechanism for requests for correction of information publicly disseminated by the Access Board. Comments will be accepted on the draft guidelines and the Access Board will consider those comments prior to issuing final guidelines.

DATES: Comments on the draft guidelines must be received by September 10, 2002.

ADDRESSES: Comments should be sent to the Office of General Counsel, Architectural and Transportation Barriers Compliance Board, 1331 F Street NW, suite 1000, Washington, DC 20004-1111. E-mail comments should be sent to stewart@access-board.gov. Comments sent by e-mail will be considered only if they contain the full name and address of the sender in the text. Comments will be available for inspection at the above address from 9 a.m. to 5 p.m. on regular business days.

FOR FURTHER INFORMATION CONTACT: Elizabeth Stewart, Deputy General Counsel, Architectural and Transportation Barriers Compliance Board, 1331 F Street NW, suite 1000, Washington DC 20004-1111. Telephone number (202) 272-0042 (voice); (202) 272-0082 (TTY). Electronic mail address: stewart@access-board.gov.

SUPPLEMENTARY INFORMATION: Pursuant to section 515 of the Treasury and General Government Appropriations Act for FY 2001 (Pub. L. 106-554), the Office of Management and Budget (OMB) issued implementing guidelines entitled “Guidelines for Ensuring and Maximizing the Quality, Objectivity, Utility, and Integrity of Information Disseminated by Federal Agencies.” ¹ OMB's implementing guidelines directed each agency to post final information quality guidelines on their web site no later than October 1, 2002. The Access Board has made its draft information quality guidelines available on its web site for public comment and review at http://www.access-board.gov/infoquality.htm.

¹ Published by OMB on September 28, 2001 (66 FR 49718), updated January 3, 2002 (67 FR 369), and corrected February 22, 2002 (67 FR 8452).

The purpose of these information quality guidelines is to ensure and maximize the quality, objectivity, utility, and integrity of information disseminated by the Access Board. The guidelines also establish administrative mechanisms allowing affected persons to seek and obtain correction of information that does not comply with these guidelines. Pursuant to the implementing guidelines issued by OMB, the Access Board must report annually to the Director of OMB, beginning January 1, 2004, on the number and nature of complaints regarding the Access Board's compliance with the information quality guidelines and how such complaints were resolved.

The Access Board will consider all comments received in response to this notice and will issue final information quality guidelines before October 1, 2002.

Lawrence W. Roffee,
Executive Director.

[FR Doc. 02-21739 Filed 8-26-02; 8:45 am]

BILLING CODE 8150-01-P